DEPARTMENT OF DEFENSE

Defense Human Resources Activity; Proposed Collection; Comment Request

AGENCY: Federal Voting Assistance Program (FVAP), DoD.

ACTION: Notice.

SUMMARY: In compliance with section 3506(c)(2)(A) of the Paperwork Reduction Act of 1995, the Washington Headquarters Services announces the proposed extension of a public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received May 24, 2004.

ADDRESSES: Written comments and recommendations on the proposed information collection should be sent to the Department of Defense, Federal Voting Assistance Program, 1155 Defense Pentagon, Washington, DC 20301-1155, ATTN: Ms. Elaine Perna Tucker.

FOR FURTHER INFORMATION CONTACT: To request more information on this proposed information collection or to obtain a copy of the proposal and associated collection instruments, please write to the above address, or call the Federal Voting Assistance Program at (703) 588-1584 or 1-(800) 438-8683.

Title and OMB Number: Post-election Voting Survey of Overseas Citizens and Post-election Voting Survey of Local Election Officials: OMB Number 0704-0125.

Needs and Uses: The information collection requirement is necessary to meet a requirement of the Uniformed and Overseas Citizens Absentee Voting Act (UOCAVA) of 1986 (42 U.S.C. 1973ff). UOCAVA requires a report to the President and Congress on the effectiveness of assistance under the Act, a statistical analysis of voter participation, and a description of State-Federal cooperation.

Affected Public: Individuals or Households: State or Local Government.

Annual Burden Hours: 391.

Number of Respondents: 2,243.

Responses per Respondent: 1.

Average Burden per Response: 10 minutes.

Frequency: Quadrennially.

SUPPLEMENTARY INFORMATION:

Summary of Information

UOCAVA requires the states to allow Uniformed Services personnel, their family members, and overseas citizens to use absentee registration procedures and to vote by absentee ballot in general, special, primary, and runoff elections for Federal offices. The Act covers members of the Uniformed Services and the merchant marine to include the commissioned corps of the National Oceanic and Atmospheric Administration and Public Health Service, and their eligible dependents, Federal civilian employees overseas, and overseas U.S. citizens not affiliated with the Federal Government. FVAP conducts the post-election survey on a statistically random bass to determine participation rates that are representative of all citizens covered by the Act, measure State-Federal cooperation, and evaluate the effectiveness of the overall absentee voting program. The information collected is used for overall program evaluation, management and improvement, and to compile the congressionally mandated report to the President and Congress.

Dated: March 17, 2004.
L.M. Bynum,
Alternate OSD Federal Register Liaison Officer, Department of Defense.

[FR Doc. 04-6392 Filed 3-22-04; 8:45 am]

BILLING CODE 5001-06-M